DEPARTMENT OF TRANSPORTATION

Federal Aviation Administration

14 CFR Part 39

[Docket No. FAA-2022-1413; Project Identifier MCAI-2021-00077-E]

RIN 2120-AA64

Airworthiness Directives; Continental Aerospace Technologies GmbH Reciprocating Engines

AGENCY: Federal Aviation Administration (FAA), DOT.

ACTION: Notice of proposed rulemaking (NPRM).

SUMMARY: The FAA proposes to adopt a new airworthiness directive (AD) for certain Continental Aerospace Technologies GmbH TAE 125-02-99 and TAE 125-02-114 model reciprocating engines. This proposed AD was prompted by manufacturer reports of fractured main bearing studs. This proposed AD would require the removal and replacement of certain main bearing studs. The FAA is proposing this AD to address the unsafe condition on these products.

DATES: The FAA must receive comments on this NPRM by December 27, 2022.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building, Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2022-1413; or in person at Docket Operations between 9 a.m. and 5 p.m., Monday through Friday, except Federal holidays. The AD docket contains this NPRM, the mandatory continuing airworthiness information (MCAI), any comments received, and other information. The street address for Docket Operations is listed above.

Material Incorporated by Reference:

• For service information identified in this NPRM, contact Continental Aerospace Technologies GmbH, Platanenstrasse 14, 09356 Sankt Egidien, Germany; phone: +49 37204 696 0; email: support@continentaldiesel.com; website: continentaldiesel.com.

• You may view this service information at the FAA, Airworthiness Products Section, Operational Safety Branch, 1200 District Avenue, Burlington, MA 01803. For information on the availability of this material at the FAA, call (817) 222-5110.

FOR FURTHER INFORMATION CONTACT: Barbara Caufield, Aviation Safety Engineer, ECO Branch, FAA, 1200 District Avenue, Burlington, MA 01803; phone: (781) 238-7146; email: barbara.caufield@faa.gov.

SUPPLEMENTARY INFORMATION:

Comments Invited

The FAA invites you to send any written relevant data, views, or arguments about this proposal. Send your comments to an address listed under ADDRESSES. Include “Docket No. FAA-2022-1413; Project Identifier MCAI-2021-00077-E” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Barbara Caufield, Aviation Safety Engineer, ECO Branch, FAA, 1200 District Avenue, Burlington, MA 01803. Any commentary that the FAA receives which is not specifically designated as CBI will be placed in the public docket for this rulemaking.

Background

The European Union Aviation Safety Agency (EASA), which is the Technical Agent for the Member States of the European Union, has issued EASA AD 2021-0022, dated January 18, 2021 (referred to after this as “the MCAI”), to address an unsafe condition on certain Continental Aerospace Technologies GmbH (Type Certificate previously held by Technify Motors GmbH and Thielert Aircraft Engines GmbH) TAE 125-02-99 and TAE 125-02-114 model reciprocating engines. The MCAI states that the manufacturer has received reports of fractured main bearing studs. A fractured main bearing stud provides improper support to the crankshaft and increases crankshaft clearance, resulting in crankshaft sensor failures and potential crankshaft fracture. The manufacturer is investigating the root cause of main bearing stud failures. To address this unsafe condition, Continental Aerospace Technologies GmbH published service information to identify the serial numbers (S/Ns) of the affected engines and specify procedures for replacement of certain main bearing studs. The MCAI specifies actions to replace main bearing studs and specifies certain main bearing studs that are not to be installed onto any engine. This condition, if not addressed, could result in engine in-flight shutdown and forced landing, damage to the airplane, and injury to the occupants. The FAA is issuing this AD to address the unsafe condition.

You may examine the MCAI in the AD docket at regulations.gov under Docket No. FAA-2022-1413.

Related Service Information Under 1 CFR Part 51

The FAA reviewed Continental Aerospace Technologies GmbH Service Bulletin (SB) CG 125-1027 P1, Revision 1, dated May 28, 2021. This service information identifies the S/Ns of the affected engines and specifies procedures for replacing the main bearing studs. The FAA also reviewed Continental Aerospace Technologies GmbH Repair Instruction RI-05-0017-04, Revision 4, dated April 1, 2021. This service information provides instructions for replacing the main bearing studs.

This service information is reasonably available because the interested parties have access to it through their normal course of business or by the means identified in ADDRESSES.

FAA's Determination

These products have been approved by the aviation authority of another country and are approved for operation in the United States. Pursuant to the FAA's bilateral agreement with this State of Design Authority, it has notified the FAA of the unsafe condition described in the MCAI and service information described above. The FAA is issuing this NPRM after determining that the unsafe condition described previously is likely to exist or develop on other products of these same type designs.

Proposed AD Requirements in This NPRM

This proposed AD would require the removal of certain main bearing studs from service and replacement with parts eligible for installation. This proposed AD would also prohibit the installation of certain main bearing studs.

Costs of Compliance

The FAA estimates that this AD, if adopted as proposed, would affect 92 engines installed on aircraft of U.S. registry.

The FAA estimates the following costs to comply with this proposed AD:

Estimated Costs
Action | Labor Cost | Parts Cost | Cost per product | Cost on U.S. operators
Replace main bearing studs | 16 work-hours × $85 per hour = $1,360 | $5,500 | $6,860 | $631,120

The FAA has included all known costs in its cost estimate. According to the manufacturer, however, some of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Continental Aerospace Technologies GmbH (Type Certificate previously held by Technify Motors GmbH and Thielert Aircraft Engines GmbH): Docket No. FAA-2022-1413; Project Identifier MCAI-2021-00077-E.

(a) Comments Due Date

The FAA must receive comments on this airworthiness directive (AD) by December 27, 2022.

(b) Affected ADs

None.

(c) Applicability

This AD applies to Continental Aerospace Technologies GmbH (Type Certificate previously held by Technify Motors GmbH and Thielert Aircraft Engines GmbH) TAE 125-02-99 and TAE 125-02-114 model reciprocating engines with an engine serial number (S/N) identified in Models Affected, Continental Aerospace Technologies GmbH Service Bulletin (SB) CG 125-1027 P1, Revision 1, dated May 28, 2021.

(d) Subject

Joint Aircraft System Component (JASC) Code 7200, Engine (Turbine/Turboprop).

(e) Unsafe Condition

This AD was prompted by manufacturer reports of fractured main bearing studs. The FAA is issuing this AD to prevent failure of the main bearing stud. The unsafe condition, if not addressed, could result in engine in-flight shutdown and forced landing, damage to the airplane, and injury to the occupants.

(f) Compliance

Comply with this AD within the compliance times specified, unless already done.

(g) Required Actions

(1) For Group 1 and Group 2 engines, before exceeding the applicable compliance time in Table 1 to paragraph (g)(1) of this AD, remove all main bearing studs from service if one or more main bearing studs with part number (P/N) 05-7211-K009801 and batch number B180703/1, B184216/1, B184216/2, or B191277/1 are installed on the engine and replace with parts eligible for installation in accordance with Instructions, paragraphs 4.2 through 4.2.17 of Continental Aerospace Technologies GmbH Repair Instruction RI-05-0017-04, Revision 4, dated April 1, 2021 (Continental Aerospace Technologies GmbH RI-05-0017-04, Revision 4).

Table 1 to Paragraph (g)(1)—Main Bearing Stud Replacement
Group | Flight hours (FHs) since new | Compliance time
1 | 100 FHs or less | Before exceeding 115 FHs since new, or during the next scheduled maintenance, whichever occurs first after the effective date of this AD.
1 | More than 100 FHs | Before exceeding 15 FHs from the effective date of this AD, or during the next scheduled maintenance, whichever occurs first after the effective date of this AD.
2 | 100 FHs or less | Before exceeding 200 FHs since new, or during the next scheduled maintenance whichever occurs first after the effective date of this AD.
2 | More than 100 FHs | Before exceeding 100 FHs from the effective date of this AD, or during the next scheduled maintenance, whichever occurs first after the effective date of this AD.

Note 1 to paragraph (g)(1): FHs since new indicated in Table 1 to paragraph (g)(1) of this AD are FHs accumulated by the engine since first installation on an airplane, on the effective date of this AD.

(2) For engines not installed on an airplane as of the effective date of this AD, before further flight, remove all main bearing studs if one or more main bearing studs with P/N 05-7211-K009801 and batch number B180703/1, B184216/1, B184216/2, or B191277/1 are installed on the engine and replace with parts eligible for installation in accordance with Instructions, paragraphs 4.2 through 4.2.17 of Continental Aerospace Technologies GmbH RI-05-0017-04, Revision 4.

(h) Installation Prohibition

After the effective date of this AD, do not install onto any engine a main bearing stud with P/N 05-7211-K009801 and batch number B180703/1, B184216/1, B184216/2, or B191277/1.

(i) Definitions

(1) For the purpose of this AD, Group 1 engines are affected engines installed on single-engine airplanes, with main bearing stud with P/N 05-7211-K009801 and batch number B180703/1, B184216/1, B184216/2, or B191277/1 installed on the engine, and affected engines installed on twin-engine airplanes, with main bearing stud with P/N 05-7211-K009801 and batch number B180703/1, B184216/1, B184216/2, or B191277/1 installed on both engines.

(2) For the purpose of this AD, Group 2 engines are affected engines installed on twin-engine airplanes, with main bearing stud with P/N 05-7211-K009801 and batch number B180703/1, B184216/1, B184216/2, or B191277/1 installed on only one engine.

(3) For the purpose of this AD, parts eligible for installation are any main bearing studs that do not have P/N 05-7211-K009801 and batch number B180703/1, B184216/1, B184216/2, or B191277/1.

(j) Alternative Methods of Compliance (AMOCs)

The Manager, ECO Branch, FAA, has the authority to approve AMOCs for this AD, if requested using the procedures found in § 39.19. In accordance with § 39.19, send your request to your principal inspector or local Flight Standards District Office, as appropriate. If sending information directly to the manager of the certification office, send it to the attention of the person identified in paragraph (k)(2) of this AD and email to: ANE-AD-AMOC@faa.gov. Before using any approved AMOC, notify your appropriate principal inspector, or lacking a principal inspector, the manager of the local flight standards district office/certificate holding district office.

(k) Additional Information

(1) Refer to European Union Aviation Safety Agency (EASA) AD 2021-0022, dated January 18, 2021, for related information. This EASA AD may be found in the AD docket at regulations.gov under Docket No. FAA-2022-1413.

(2) For more information about this AD, contact Barbara Caufield, Aviation Safety Engineer, ECO Branch, FAA, 1200 District Avenue, Burlington, MA 01803; phone: (781) 238-7146; email: barbara.caufield@faa.gov.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) Continental Aerospace Technologies GmbH Service Bulletin CG 125-1027 P1, Revision 1, dated May 28, 2021.

(ii) Continental Aerospace Technologies GmbH Repair Instruction RI-05-0017-04, Revision 4, dated April 1, 2021.

(3) For Continental Aerospace Technologies GmbH service information identified in this AD, contact Continental Aerospace Technologies GmbH, Platanenstrasse 14, 09356 Sankt Egidien, Germany; phone: +49 37204 696 0; email: support@continentaldiesel.com; website: continentaldiesel.com.

(4) You may view this service information at the FAA, Airworthiness Products Section, Operational Safety Branch, 1200 District Avenue, Burlington, MA 01803. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on November 3, 2022.
Christina Underwood,
Acting Director, Compliance & Airworthiness Division, Aircraft Certification Service.

[FR Doc. 2022-24390 Filed 11-8-22; 8:45 am]

BILLING CODE 4910-13-P